DEPARTMENT OF THE INTERIOR

National Park Service

[NPS-WASO-NAGPRA-NPS0027194; PPWOCRADN0-PCU00RP14.R50000]

Notice of Intent To Repatriate Cultural Items: Thomas Burke Memorial Washington State Museum, University of Washington, Seattle, WA

AGENCY: National Park Service, Interior.

ACTION: Notice.

SUMMARY: The Thomas Burke Memorial Washington State Museum (Burke Museum), in consultation with the appropriate Indian Tribes or Native Hawaiian organizations, has determined that the cultural item listed in this notice meets the definition of an unassociated funerary object. Lineal descendants or representatives of any Indian Tribe or Native Hawaiian organization not identified in this notice that wish to claim this cultural item should submit a written request to the Burke Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Burke Museum at the address in this notice by March 11, 2019.

ADDRESSES: Peter Lape, Burke Museum, University of Washington, Box 353010, Seattle, WA 98195, telephone (206) 685-3849 Ext 2, email plape@uw.edu.

SUPPLEMENTARY INFORMATION: Notice is here given in accordance with the Native American Graves Protection and Repatriation Act (NAGPRA), 25 U.S.C. 3005, of the intent to repatriate a cultural item under the control of the Thomas Burke Memorial Washington State Museum, University of Washington, Seattle, WA, that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1946, one cultural item was removed from site 45-SJ-21, Guss Island, in San Juan County, WA, during a survey by B. Lane and F. Barnett. Lane and Barnett were accompanied by Arden King, who directed a University of Washington field school on San Juan Island from 1946-1947. The cultural item was accessioned by the Burke Museum in 1951 (Burke Accn. #3649) along with other archeological material from the field school. The one unassociated funerary object is a broken hammerstone.

Guss Island, located in Garrison Bay on San Juan Island, is within the aboriginal territory of the Lummi Tribe of the Lummi Reservation. Information provided during consultation indicates that it was used as a burial island, which corresponds with archeological evidence of Native American canoe burials on Guss Island. Lummi oral tradition and anthropological data clearly associate the Lummi with San Juan Island, including Guss Island (Suttles 1951, 1990). The archeological record shows continuous habitation from approximately 2000 years ago through the mid-19th century by Northern Straits peoples who were ancestral to the Lummi Tribe. Oral tradition, archeological evidence and ethnographic accounts all support a cultural affiliation between the unassociated funerary object from Guss Island and the Lummi Tribe of the Lummi Reservation.

Determinations Made by the Thomas Burke Memorial Washington State Museum

Officials of the Thomas Burke Memorial Washington State Museum have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and the Lummi Tribe of the Lummi Reservation.

Additional Requestors and Disposition

Lineal descendants or representatives of any Indian Tribe or Native Hawaiian organization not identified in this notice that wish to claim this cultural item should submit a written request with information in support of the claim to Peter Lape, Burke Museum, University of Washington, Box 353010, Seattle, WA 98195, telephone (206) 685-3849 Ext 2, email plape@uw.edu, by March 11, 2019. After that date, if no additional claimants have come forward, transfer of control of the unassociated funerary object to the Lummi Tribe of the Lummi Reservation may proceed.

The Burke Museum is responsible for notifying the Lummi Tribe of the Lummi Reservation that this notice has been published.

Dated: December 17, 2018.
Melanie O'Brien,
Manager, National NAGPRA Program.

[FR Doc. 2019-01627 Filed 2-7-19; 8:45 am]

BILLING CODE 4312-52-P